DEPARTMENT OF EDUCATION

Submission for OMB Review; Comment Request

AGENCY: Department of Education.

ACTION: Correction notice.

SUMMARY: On April 15, 2009, the Department of Education published a comment period notice in the Federal Register (Page 17459, Column 1) for the information collection, “Documents Associated with the Notice of Terms and Conditions of Additional Purchase of Loans under the “Ensuring Continued Access to Student Loans Act of 2008”. This notice amends the total annual responses to 8,395. The IC Clearance Official, Regulatory Information Management Services, Office of Management, hereby issues a correction notice as required by the Paperwork Reduction Act of 1995.

Dated: April 20, 2009.
Angela C. Arrington,
IC Clearance Official, Regulatory Information Management Services, Office of Management.

[FR Doc. E9-9316 Filed 4-22-09; 8:45 am]

BILLING CODE 4000-01-P